DEPARTMENT OF THE INTERIOR

Bureau of Reclamation

[INT-DES-11-58]

Draft Programmatic Environmental Impact Statement for the Integrated Water Resource Management Plan, Yakima River Basin Water Enhancement Project, Benton, Kittitas, Klickitat, and Yakima Counties, WA

AGENCY: Bureau of Reclamation, Interior.

ACTION: Notice of availability and public meetings.

SUMMARY: The Bureau of Reclamation, in cooperation with the Washington State Department of Ecology, the joint lead agency, has prepared a draft Programmatic Environmental Impact Statement for the Integrated Water Resource Management Plan, Yakima River Basin Water Enhancement Project. The draft Programmatic Environmental Impact Statement (DPEIS) is available for public review and comment.

DATES: Submit written comments on the draft Programmatic Environmental Impact Statement on or before January 3, 2012

Three public open house meetings will be held on the following dates to share information about the proposed action:

• Monday, December 5, 2011, 1:30 p.m. to 3:30 p.m. and from 5 p.m. to 7 p.m., Cle Elum, Washington.

• Tuesday, December 6, 2011, 1:30 p.m. to 3:30 p.m. and from 5 p.m. to 7 p.m., Ellensburg, Washington.

• Wednesday, December 14, 2011, 1:30 p.m. to 3:30 p.m. and from 5 p.m. to 7 p.m., Yakima, Washington.

ADDRESSES: Submit written comments or requests for copies to Candace McKinley, Environmental Program Manager, Bureau of Reclamation, Columbia-Cascades Area Office, 1917 Marsh Road, Yakima, WA 98901; or by email to yrbwep@usbr.gov.

The draft Programmatic Environmental Impact Statement is also available on the Bureau of Reclamation's Web site at http://www.usbr.gov/pn/programs/yrbwep/2011integratedplan/index.html.

The public open house meetings will be held at:

• Cle Elum—Cle Elum Ranger District, Tom L. Craven Conference Room, 803 W. Second Street.

• Ellensburg—Hal Holmes Center, 209 N. Ruby Street.

• Yakima—Yakima Area Arboretum, 1401 Arboretum Way.

See the SUPPLEMENTARY INFORMATION section for locations where copies of the draft Programmatic Environmental Impact Statement is available for public review.

FOR FURTHER INFORMATION CONTACT: Candace McKinley, (509) 575-5848, ext. 232; or email at CMckinley@usbr.gov. TTY users may dial 711 to obtain a toll-free TTY relay.

SUPPLEMENTARY INFORMATION:

Background

In 1979, Congress initiated the Yakima River Basin Water Enhancement Project (YRBWEP) in response to long-standing water resource problems in the basin. The YRBWEP involves developing a plan to achieve four objectives: (1) Provide supplemental water for presently irrigated lands; (2) provide water for new lands within the Yakama Indian Reservation; (3) provide water for increased instream flows for aquatic life; and (4) identify a comprehensive approach for efficient management of basin water supplies.

Initial efforts in the mid-1980s (Phase 1) focused on improving fish passage by rebuilding fish ladders and constructing fish screens at existing diversions. Phase 2 in the 1990s focused on water conservation/water acquisition activities, tributary fish screens, and long-term management needs. Efforts under these initial phases were hindered by the ongoing uncertainties associated with adjudication of the basin surface waters that began in 1978. With the adjudication process now largely completed, most of the water right uncertainties have been addressed.

In 2003, the Bureau of Reclamation (Reclamation) and the Washington State Department of Ecology (Ecology) initiated the Yakima River Basin Water Storage Feasibility Study to examine storage augmentation in the Yakima River basin. This study emphasized evaluation of a proposed Black Rock Reservoir, which was the focus of the Yakima River Basin Water Storage Feasibility Study Draft Planning Report/Environmental Impact Statement (PR/EIS) issued in January 2008.

The narrow focus of the legislative authorization in combination with comments on the Draft PR/EIS prompted Ecology to separate from the National Environmental Policy Act (NEPA) process. In mid-2008, Ecology initiated a separate evaluation of the Yakima basin's water supply problems, including consideration of habitat and fish passage needs. Reclamation continued the NEPA process consistent with its legislative authorization and issued the Yakima River Basin Water Storage Feasibility Study Final PR/EIS in December 2008. Following issuance of the Final PR/EIS, Reclamation selected the No Action Alternative. Ecology completed its study and issued a separate Final Environmental Impact Statement (FEIS) for the Yakima River Basin Integrated Water Resource Management Alternative in June 2009 under SEPA. The Integrated Water Resource Management Alternative evaluated in the Ecology FEIS relied upon a range of water management and habitat improvement approaches to resolve the long-standing water resource problems in the basin.

The DPEIS describes and analyzes the potential effects of two alternatives. Under the Action Alternative, Reclamation and Ecology would implement an Integrated Water Resource Management Plan based on the following elements:

1. Fish Passage (fish passage improvements at Cle Elum, Bumping, Clear Lake, Keechelus, Kachess, and Tieton Dams);

2. Structural/Operational Changes (Cle Elum Dam pool raise, Kittitas Reclamation District canal modifications, Keechelus to Kachess pipeline, subordination of power generation at Roza and Chandler Power Plants and Wapatox canal improvements.);

3. Surface Storage (new Wymer Dam and Reservoir, Bumping Reservoir enlargement, Kachess inactive storage);

4. Groundwater Storage (groundwater infiltration prior to storage control and aquifer storage and recovery);

5. Habitat protection and enhancement (targeted watershed protection and enhancements;

6. Enhanced Water Conservation (agricultural water and municipal/domestic conservation); and

7. Market-Based Reallocation of Water Resources (institutional improvements to facilitate market-based water transfers).

Under the No Action Alternative, Reclamation and Ecology would not implement development of new surface water storage in the Yakima River basin or expansion of programs to protect or enhance fish habitat, nor would Reclamation and Ecology implement structural and operational changes enhanced water conservation, market-based reallocation of water resources, or groundwater storage.

Purpose and Need for Action

The current water resources infrastructure of the Yakima River basin has not been capable of consistently meeting aquatic resource demands for fish and wildlife habitat, dry-year irrigation demands, and municipal water supply demands. Specific needs that the Integrated Plan is proposed to address include: Anadromous and resident fish populations are seriously depleted from historic levels due to the following major factors:

• Dams and other obstructions block fish passage to upstream tributaries and spawning grounds;

• Riparian habitat and floodplain functions have been degraded by past and present land use practices; and

• Irrigation operations have altered stream flows, resulting in flows at certain times of the year that are too high in some reaches and too low in others to provide good fish habitat.

Demand for irrigation water significantly exceeds supply in drought years, leading to severe prorationing (delivery of a reduced water supply) for proratable, or junior, water rights holders:

• A water supply of 70 percent of proratable water rights during a drought year would provide a minimally acceptable supply to prevent severe economic losses to farmers. This number was reached following extensive discussions with stakeholders regarding the lowest level of water supply that could be accommodated without catastrophic losses to crops, assuming aggressive water management techniques were employed. This 70-percent threshold is similar to the State of Washington's definition of a drought condition contained in RCW 43.83B.400, which recognizes a drought when water supply for a significant portion of a geographic area falls below 75 percent of normal and is likely to cause undue hardship for various water uses and users.

Demand for municipal and domestic water supplies is difficult to meet because of the following factors:

• Water rights in the basin are fully appropriated, making it difficult to acquire water rights to meet future municipal and domestic water demand;

• Pumping groundwater for irrigation and municipal uses may reduce surface water flows in some locations, which may affect existing water rights; and

• Hydraulic continuity between groundwater and surface water in the basin creates uncertainty over the status of groundwater rights and permit exempt wells within the basin's appropriative water rights system (first in time first in right), potentially making groundwater use junior to nearly all surface water use.

Climate change projections indicate that there will be less runoff available from reservoirs, increasing the need for prorationing and reducing flows for fish.

These problems have created a need to restore ecological functions in the Yakima River system and to provide more reliable and sustainable water resources for the health of the riverine environment, and for agriculture and municipal and domestic needs. These needs should be addressed in a way that anticipates increased water demands and changes in water supply related to climate change.

The purposes of the Integrated Plan are to:

• Implement a comprehensive program of water resource and habitat improvements in response to existing and forecast needs of the Yakima River basin; and

• Develop an adaptive approach for implementing these initiatives and for long-term management of basin water supplies that contributes to the vitality of the regional economy and sustains the health of the riverine environment.

Proposed Federal Action

Reclamation proposes to implement an integrated water resource management plan in the Yakima River basin as part of the Yakima River Basin Water Enhancement Project to improve water supply reliability during drought years to 70 percent of proratable supply for participating irrigation districts; improve the ability of water managers to respond and adapt to potential effects of climate change; provide opportunities for comprehensive ecological restoration and enhancement addressing instream flows, aquatic habitat, and fish passage; provide economic stimulus to the Yakima River basin that will benefit the larger Central Washington area; and develop a comprehensive approach for efficient management of water supplies for irrigated agriculture, municipal and domestic uses, and power generation.

Locations for Public Review

Copies of the DPEIS are available for public review and inspection at the following locations:

• Bureau of Reclamation, Columbia-Cascades Area Office, 1917 Marsh Road, Yakima, Washington 98901.

• Washington State Department of Ecology, 15 W. Yakima Avenue, Suite 200, Yakima, Washington 98902.

Libraries

• Carpenter Memorial Library, 302 N Pennsylvania Ave, Cle Elum, Washington 98922.

• Ellensburg Public Library, 209 N Ruby St, Ellensburg, Washington 98926.

• Roslyn Public Library, 201 S. First St, Roslyn, Washington 98941.

• Benton City Library, 810 Horne Dr, Benton City, Washington 99320.

• Kennewick Library, 1620 S Union St, Kennewick, Washington 99338.

• Kittitas Public Library, 200 N Pierce St, Kittitas, Washington 98934.

• Mid-Columbia Library, 405 S Dayton St, Kennewick, Washington 99336.

• Pasco Library, 1320 W Hopkins St, Pasco, Washington 99301.

• Prosser Library, 902 7th St, Prosser, Washington 99350.

• Richland Public Library, 955 Northgate Dr, Richland, Washington 99352.

• Sunnyside Public Library, 621 Grant Ave, Sunnyside, Washington 98944.

• Toppenish Library, 1 S Elm St, Toppenish, Washington 98948.

• Wapato Library, 119 E 3rd St, Wapato, Washington 98951.

• Washington State Library, Point Plaza East, 6880 Capitol Blvd. SE., Tumwater, Washington 98504.

• West Richland Library, 3803 W Van Giesen St, Richland, Washington 99353.

• Yakama Nation Library, 100 Spiel-Yi Loop, Toppenish, Washington 98948.

• Yakima Valley Regional Library, 102 N 3rd St, Yakima, Washington 98901.

Special Assistance for Public Meetings

If special assistance is required to participate in the public meetings, please contact Candace McKinley at (509) 575-5848, ext. 232, or via email at cmckinley@usbr.gov. Please notify Ms. McKinley as far in advance as possible to enable Reclamation to secure the needed services. If a request cannot be honored, the requestor will be notified. TTY users may dial 711 to obtain a toll-free TTY relay.

Public Disclosure

Before including your name, address, phone number, email address, or other personal identifying information in your comment, you should be aware that your entire comment—including your personal identifying information—may be made publicly available at any time. While you can ask us in your comment to withhold your personal identifying information from public review, we cannot guarantee that we will be able to do so.

Dated: November 7, 2011.
Karl E. Wirkus,
Regional Director, Pacific Northwest Region.

[FR Doc. 2011-29577 Filed 11-15-11; 8:45 am]

BILLING CODE 4310-MN-P